DEPARTMENT OF THE INTERIOR

Bureau of Land Management

[WY/PL-00/012+1310]

South Baggs Area Natural Gas Development Project

AGENCY: Bureau of Land Management, Interior.

ACTION: Notice of availability of Final Environmental Impact Statement.

SUMMARY: The Bureau of Land Management (BLM) announces the availability of the Final Environmental Impact Statement (FEIS) for the South Baggs Area Natural Gas Project (Project). The FEIS analyzes the environmental consequences of Merit Energy Company's (Merit) proposal to drill up to fifty (50) additional natural gas wells in the Project area over the next 10 years. The Project area encompasses approximately 12,352 acres of Federal, State, and private lands located approximately 3 miles west of the town of Baggs in Carbon County, Wyoming, within the administrative jurisdiction of the BLM Rawlins Field Office. Approximately 43 oil and gas wells have been drilled within the Project area to date.

DATES: Written comments on the FEIS will be accepted for 30 days following the date that the Environmental Protection Agency (EPA) publishes their notice of availability of the FEIS in the Federal Register. The EPA notice is expected to be published April 14, 2000.

ADDRESSES: Send written comments to: Larry Jackson, Team Leader, Rawlins Field Office, Bureau of Land Management, 1300 N. Third Street, P.0. Box 2407, Rawlins, Wyoming 82301, or e-mail to: rawlins_wymail@blm.gov.

FOR FURTHER INFORMATION CONTACT: Larry Jackson, phone 307-328-4231.

SUPPLEMENTARY INFORMATION: The Project FEIS analyzes the impacts of drilling from 40 (Alternative A) to 90 (Alternative B) natural gas wells, along with constructing access roads, pipelines, and other ancillary facilities (compressor station, water disposal sites, etc.) on 10,067 acres of Federal land and 2,285 acres of non-Federal lands. The exact numbers of additional wells, the locations of those wells, and the timing for drilling them are contingent upon drilling success, production technology, and economic considerations. The No Action Alternative analyzes the current level of drilling and development (43 wells) in the South Baggs Project area.

If you wish to comment on the FEIS, we request you make your comments as specific as possible. Comments will be more helpful if they include suggested changes, sources, or methodologies. Opinions or preference will not receive a formal response; however, BLM will consider them in its decision.

Comments, including names and street addresses of respondents, will be available for public review at the address listed above during regular business hours (7:45 a.m.-4:30 p.m.) Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: March 30, 2000.
Alan L. Kesterke,
Associate State Director.

[FR Doc. 00-8439 Filed 4-5-00; 8:45 am]

BILLING CODE 4310-22-P